DEPARTMENT OF COMMERCE

International Trade Administration

[A-570-918]

Steel Wire Garment Hangers From the People's Republic of China: Final Results of Antidumping Duty Administrative Review, 2014-2015

AGENCY: Enforcement and Compliance, International Trade Administration, Department of Commerce.

SUMMARY: For the final results of the administrative review of the antidumping order on steel wire garment hangers from the People's Republic of China, we find that the subject merchandise is being sold, or is likely to be sold, at less than normal value. The period of review is October 1, 2014, through September 30, 2015. Based on our analysis of the comments received, we made changes to the margin calculation for these final results of the antidumping duty administrative review. The final weighted-average dumping margin is listed below in the “Final Results of the Administrative Review” section of this notice.

DATES: Effective April 17, 2017.

FOR FURTHER INFORMATION CONTACT: Jessica Weeks or Kabir Archuletta, AD/CVD Operations, Office V, Enforcement and Compliance, International Trade Administration, Department of Commerce, 1401 Constitution Ave. NW., Washington, DC 20230; telephone: (202) 482-4877 or (202) 482-2593, respectively.

SUPPLEMENTARY INFORMATION:

Background

The Department of Commerce (the Department) published the Preliminary Results on November 14, 2016.¹ For events subsequent to the Preliminary Results, see the Department's final Issues and Decision Memorandum.² On February 28, 2017, in accordance with section 751(a)(3)(A) of the Tariff Act of 1930, as amended (the Act), the Department extended the deadline for issuing the final results by 30 days.³ The deadline for the final results is April 13, 2017.

¹ See Steel Wire Garment Hangers from the People's Republic of China: Preliminary Results of Antidumping Duty Administrative Review; 2014-2015, 81 FR 79435 (November 14, 2016) (Preliminary Results) and accompanying Preliminary Decision Memorandum.

² See Memorandum to Ronald K. Lorentzen, Acting Assistant Secretary for Enforcement and Compliance, from James Maeder, Senior Director, Office I, Antidumping and Countervailing Duty Operations “Steel Wire Garment Hangers from the People's Republic of China: Issues and Decision Memorandum for the Final Results of the Seventh Antidumping Duty Administrative Review of Steel Wire Garment Hangers from the People's Republic of China,” dated concurrently with and hereby adopted by this notice, (Issues and Decision Memorandum).

³ See Memorandum to James Maeder, Senior Director, Office I, through James Doyle, Director, Office V, from Jessica Weeks, International Trade Compliance Analyst, Office V, regarding “Steel Wire Garment Hangers from the People's Republic of China (PRC): Extension of Deadline for Final Results of Antidumping Duty Administrative Review,” (February 28, 2017).

Scope of the Order

The merchandise that is subject to the Order ⁴ is steel wire garment hangers. The products subject to the order are currently classified under U.S. Harmonized Tariff Schedule (HTSUS) subheadings 7326.20.0020, 7323.99.9060, and 7323.99.9080. Although the HTSUS subheadings are provided for convenience and customs purposes, the written description of the merchandise remains dispositive. A full description of the scope of the order is contained in the Issues and Decision Memorandum.⁵

⁴ See Notice of Antidumping Duty Order: Steel Wire Garment Hangers from the People's Republic of China, 73 FR 58111 (October 6, 2008) (Order).

⁵ See Issues and Decision Memorandum for a complete description of the Scope of the Order.

Analysis of Comments Received

All issues raised in the case and rebuttal briefs by interested parties in this review are addressed in the Issues and Decision Memorandum.⁶ A list of the issues which parties raised is attached to this notice as an Appendix. The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed directly on the internet at http://enforcement.trade.gov/frn/. The signed Issues and Decision Memorandum and the electronic versions of the Issues and Decision Memorandum are identical in content.

⁶ Id.

Changes Since the Preliminary Results

Based on our review of the record and comments received from interested parties regarding our Preliminary Results, we have made certain revisions to the margin calculation for Shanghai Wells Hanger Co., Ltd.⁷ The Issues and Decision Memorandum ⁸ and Surrogate Values Memo ⁹ contain further explanations and descriptions of our changes to the surrogate values selected for Shanghai Wells Hanger Co., Ltd.'s factors of production.

⁷ See Issues and Decision Memorandum and the company-specific analysis memoranda for further explanation regarding these changes.

⁸ See Issues and Decision Memorandum.

⁹ See Memorandum to the File through Catherine Bertrand, Program Manager, Office V, from Jessica Weeks, International Trade Compliance Analyst, Office V, “RE: Seventh Administrative Review of Steel Wire Garment Hangers from the People's Republic of China: Surrogate Values for the Final Results,” dated concurrently with this notice (Surrogate Values Memo).

Final Results of the Administrative Review

Regarding the administrative review, the following weighted-average dumping margin for the period October 1, 2014, through September 30, 2015 is as follows:

¹⁰ In the first administrative review of the Order, the Department found that Shanghai Wells Hanger Co., Ltd. and Hong Kong Wells Ltd. are a single entity and, because there were no changes to the facts that supported that decision since that determination was made, we continue to find that these companies are part of a single entity for this administrative review. See Steel Wire Garment Hangers from the People's Republic of China: Preliminary Results and Preliminary Rescission, in Part, of the First Antidumping Duty Administrative Review, 75 FR 68758, 68761 (November 9, 2010), unchanged in First Administrative Review of Steel Wire Garment Hangers from the People's Republic of China: Final Results and Final Partial Rescission of Antidumping Duty Administrative Review, 76 FR 27994, 27996 (May 13, 2011); see Steel Wire Garment Hangers from the People's Republic of China: Final Results of Antidumping Duty Administrative Review, 2013-2014, 80 FR 69942 (November 2, 2015); see also Preliminary Results (November 14, 2016).

Exporter | Weighted- average dumping margin (percent)
Shanghai Wells Hanger Co., Ltd./Hong Kong Wells Ltd ¹⁰ | 23.09

Because no party requested a review of the PRC (People's Republic of China)-wide entity and the Department no longer considers the PRC-wide entity as an exporter conditionally subject to administrative reviews,¹¹ we did not conduct a review of the PRC-wide entity. Thus, the weighted-average dumping margin for the PRC-wide entity (i.e., 187.25 percent) ¹² is not subject to change as a result of this review.

¹¹ See Antidumping Proceedings: Announcement of Change in Department Practice for Respondent Selection in Antidumping Duty Proceedings and Conditional Review of the Nonmarket Economy Entity in NME Antidumping Duty Proceedings, 78 FR 65963, 65969-70 (November 4, 2013).

¹² See Steel Wire Garment Hangers from the People's Republic of China: Final Results of Antidumping Duty Administrative Review, 2012-2013, 80 FR 13332, and accompanying Issues and Decision memorandum (March 13, 2015)

Assessment Rates

Pursuant to section 751(a)(2)(A) of the Act and 19 CFR 351.212(b), the Department will determine, and CBP shall assess, antidumping duties on all appropriate entries of subject merchandise in accordance with the final results of this review. The Department intends to issue assessment instructions to CBP 15 days after the date of publication of these final results of review.

For any individually examined respondent whose weighted-average dumping margin is above the de minimis threshold (i.e., 0.50 percent), the Department will calculate importer-specific ad valorem assessment rates on the basis of the ratio of the total amount of dumping calculated for the importer's examined sales and the total entered value of sales. Where either the respondent's weighted-average dumping margin is zero or de minimis, or an importer-specific ad valorem assessment rate is zero or de minimis, we will instruct CBP to liquidate the appropriate entries without regard to antidumping duties.

Where the respondent reported reliable entered values, we calculated importer- (or customer-) specific ad valorem rates by aggregating the dumping margins calculated for all U.S. sales to each importer (or customer) and dividing this amount by the total entered value of the sales to each importer (or customer).¹³ Where the Department calculated a weighted-average dumping margin by dividing the total amount of dumping for reviewed sales to that party by the total sales quantity associated with those transactions, the Department will direct CBP to assess importer-specific assessment rates based on the resulting per-unit rates.¹⁴ Where an importer- (or customer-) specific ad valorem or per-unit rate is greater than de minimis, the Department will instruct CBP to collect the appropriate duties at the time of liquidation.¹⁵ Pursuant to the Final Modification for Reviews,¹⁶ where an importer- (or customer-) specific ad valorem or per-unit rate is zero or de minimis, the Department will instruct CBP to liquidate appropriate entries without regard to antidumping duties.¹⁷

¹³ See 19 CFR 351.212(b)(1).

¹⁴ Id.

¹⁵ Id.

¹⁶ See Antidumping Proceedings: Calculation of the Weighted-Average Dumping Margin and Assessment Rate in Certain Antidumping Duty Proceedings; Final Modification, 77 FR 8101 (February 14, 2012) (Final Modification for Reviews).

¹⁷ Id. at 8102.

The Department announced a refinement to its assessment practice in NME cases. Pursuant to this refinement in practice, for entries that were not reported in the U.S. sales databases submitted by companies individually examined during this review, the Department will instruct CBP to liquidate such entries at the PRC-wide rate. Additionally, if the Department determines that an exporter had no shipments of the subject merchandise, any suspended entries that entered under that exporter's case number (i.e., at that exporter's rate) will be liquidated at the PRC-wide rate.¹⁸

¹⁸ See Non-Market Economy Antidumping Proceedings: Assessment of Antidumping Duties, 76 FR 65694 (October 24, 2011).

Cash Deposit Requirements

The following cash deposit requirements will be effective upon publication of the final results of this review for shipments of the subject merchandise from the PRC entered, or withdrawn from warehouse, for consumption on or after the publication date, as provided by section 751(a)(2)(C) of the Act: (1) For the exporter listed above, the cash deposit rate will be established in the final results of this review (except, if the rate is zero or de minimis, then zero cash deposit will be required); (2) for previously investigated or reviewed PRC and non-PRC exporters not listed above that received a separate rate in a prior segment of this proceeding, the cash deposit rate will continue to be the exporter-specific rate published for the most recent period; (3) for all PRC exporters of subject merchandise that have not been found to be entitled to a separate rate, the cash deposit rate will be the PRC-wide rate of 187.25 percent; and (4) for all non-PRC exporters of subject merchandise which have not received their own rate, the cash deposit rate will be the rate applicable to the PRC exporter that supplied that non-PRC exporter. These deposit requirements, when imposed, shall remain in effect until further notice.

Disclosure

We intend to disclose the calculations performed regarding these final results within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification Regarding Administrative Protective Orders

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

This notice of the final results of this antidumping duty administrative review is issued and published in accordance with sections 751(a)(1) and 777(i) of the Act and 19 CFR 351.213 and 19 CFR 351.221(b)(5).

Dated: April 11, 2017.
Ronald K. Lorentzen,
Acting Assistant Secretary for Enforcement and Compliance.

Appendix—Issues and Decision Memorandum

List of Topics Discussed in the Final Decision Memorandum

Summary

Background

Scope of the Order

Changes Since the Preliminary Results

Discussion of the Issues

Comment 1: Surrogate Country Selection

Comment 2: Surrogate Financial Ratio Calculation

Comment 3: Corrugated Paper Surrogate Value

Comment 4: Brokerage and Handling Surrogate Value

Comment 5: Value Added Tax (VAT)

Recommendation

[FR Doc. 2017-07683 Filed 4-14-17; 8:45 am]

BILLING CODE 3510-DS-P